DEPARTMENT OF LABOR

Office of Workers' Compensation Programs

Proposed Extension of Existing Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Office of Workers' Compensation Programs is soliciting comments concerning its proposal to extend OMB approval of the information collection: Statement of Recovery (SOR) Forms (CA-1108 and CA-1122). A copy of the proposed information collection request can be obtained by contacting the office listed below in the addresses section of this Notice.

DATES: Written comments must be submitted to the office listed in the addresses section below on or before April 9, 2012.

ADDRESSES: Ms. Yoon Ferguson, U.S. Department of Labor, 200 Constitution Ave. NW., Room S-3201, Washington, DC 20210, telephone (202) 693-0701, fax (202) 693-1447, Email Alvarez.Vincent@dol.gov. Please use only one method of transmission for comments (mail, fax, or Email).

SUPPLEMENTARY INFORMATION: I. Background: Under section 8131 a Federal employee can sustain a work-related injury, for which he or she is eligible for compensation under the Federal Employees' Compensation Act (FECA), under circumstance that create a legal liability in some third party to pay damages for the same injury. When this occurs, section 8131 of the FECA (5 U.S.C. 8131) authorizes the Secretary of Labor to either require the employee to assign his or her right of action to the United States or to prosecute the action. When the employee receives a payment for his or her damages, whether from a final court judgment on or a settlement of the action, section 8132 of the FECA (5 U.S.C. 8132) provides that the employee “shall refund to the United States that amount of compensation paid by the United States * * *.” To enforce the United States' statutory right to this refund, the Office of Workers' Compensation Programs (OWCP) has promulgated regulations that require both the reporting of these types of payments (20 CFR 10.710) and the submission of the type of detailed information necessary to calculate the amount of the required refund (20 CFR 10.707(e)). The information collected by Form CA-1122 is requested from the claimant if he or she received a payment for damages without hiring an attorney. Form CA-1108 requests this information from the attorney if one was hired to bring suit against the third party. If SOL is contacted directly, SOL would provide the attorney the CA-1108. Furthermore, by memorandum of agreement between OWCP with the United States Postal Service (USPS), USPS may administer the third party aspects of certain cases. The USPS must follow the guidelines established by OWCP for processing any funds recovered from the third party, including the use of the OMB-approved SOR. This information collection is currently approved for use through June 30, 2012.

II. Review Focus: The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions: The Department of Labor seeks the approval for the extension of this currently approved information collection in order to exercise its responsibility to enforce the United States' right to this refund. These forms will be used to obtain information about amounts received as the result of a final judgment in litigation, or a settlement of the litigation, brought against a third party who is liable for damages due to compensable work-related injury.

Type of Review: Extension.

Agency: Office of Workers' Compensation Programs.

Title: Statement of Recovery Forms.

OMB Number: 1240-0001.

Agency Number: CA-1108 and CA-1122.

Affected Public: Business or other for-profit, Individuals or households.

Form | Time to complete (minutes) | Frequency of response | Number of respondents | Number of responses | Hours burden
CA-1108 Business Respondent | 30 | 1 | 2,549 | 2,549 | 1,275
CA-1122 Individual Respondent | 15 | 1 | 283 | 283 | 71
Totals | NA | NA | 2,832 | 2,832 | 1,346

Total Respondents: 2,832.

Total Annual Responses: 2,832.

Average Time per Response: 15-30 minutes.

Estimated Total Burden Hours: 1,346.

Frequency: As needed.

Total Burden Cost (capital/startup): $0.

Total Burden Cost (operating/maintenance): $1,359.

Comments submitted in response to this notice will be summarized and/or included in the request for Office of Management and Budget approval of the information collection request; they will also become a matter of public record.

Dated: February 6, 2012.
Vincent Alvarez,
Agency Clearance Officer, Office of Workers' Compensation Programs, U.S. Department of Labor.

[FR Doc. 2012-2998 Filed 2-8-12; 8:45 am]

BILLING CODE 4510-CH-P